DEPARTMENT OF TRANSPORTATION

Federal Railroad Administration

[Docket No. FRA-2022-0064]

Request for Information for the Interstate Rail Compacts Program

AGENCY: Federal Railroad Administration (FRA), Department of Transportation (DOT).

ACTION: Request for information (RFI).

SUMMARY: On November 5, 2021, President Biden signed into law the Infrastructure Investment and Jobs Act, also known as the Bipartisan Infrastructure Law (BIL). The BIL provides historic appropriations for the railroad transportation grant programs administered by FRA and authorizes new programs to enhance rail safety and to repair, restore, improve, and expand the nation's rail network. A new program established under the BIL is the Interstate Rail Compacts Grant Program (the Program), which provides financial assistance to existing interstate rail compacts (IRCs) to strengthen their capability to advance intercity passenger rail service within their regions. The BIL requires the Secretary of Transportation to establish the Program; this responsibility is delegated to FRA. In this RFI, FRA seeks comments on the Program.

DATES: Written comments on this RFI must be received on or before September 19, 2022. FRA will consider comments filed after this date to the extent practicable.

ADDRESSES: Comments should refer to docket number FRA-2022-0064 and be submitted at https://www.regulations.gov. Search by using the docket number and follow the instructions for submitting comments.

Instructions: All submissions must include the agency name and docket number (FRA-2022-0064) for this RFI.

Note: All comments received, including any personal information, will be posted without change to the docket and will be accessible to the public at https://www.regulations.gov. You should not include information in your comment that you do not want to be made public. Input submitted online via https://www.regulations.gov is not immediately posted to the site. It may take several business days before your submission is posted.

FOR FURTHER INFORMATION CONTACT: For further information related to this RFI, please contact Wynne Davis, Supervisory Transportation Analyst, Program Development and Strategy Division, by email: Wynne.Davis@dot.gov or by telephone: 202-493-6122.

SUPPLEMENTARY INFORMATION:

Background

The Program allows FRA to provide financial assistance to existing IRCs, which are established in law by member States passing identical or near identical legislation, to develop and advance intercity passenger rail service. The Program can fund the technical and administrative functions of IRCs in addition to supporting coordination and promotion activities for rail services within a region.

IRCs have a history of promoting intercity passenger rail projects within their regions and encouraging policies that foster the efficient development of intercity passenger rail projects. IRCs have also served as a means of regional coordination of rail projects sponsored by the departments of transportation in their member States. Furthermore, as investment in intercity passenger rail from State and Federal governments over the past decade has created increasingly robust rail networks, a greater need has emerged for increased cooperation across state lines to coordinate intercity passenger rail services and project delivery. Certain regions have also expressed a desire for strong leadership to represent regional needs. IRCs present an opportunity to fulfill these needs. The Program is designed to support IRCs by providing financial assistance to facilitate their administrative and technical functions and encourage IRCs to build greater organizational capacity.

Information Requested

FRA is seeking input on how the Program can best support existing IRCs so they are able to take a more central role in advancing the development of intercity passenger rail service. Additionally, although only established IRCs are eligible for financial assistance under the Program, FRA is considering whether offering other types of assistance outside of the Program, such as technical support, to States interested in developing IRCs would be beneficial. Therefore, in addition to questions about the Program, FRA is seeking comments about how it may be able to assist States in those endeavors.

FRA requests that responses to the RFI be organized by the topics outlined below, including references, as applicable, to the numbered questions. Respondents are encouraged to address in their responses any topic they believe to be relevant to the Program and not limited to addressing only those topics and questions outlined below.

Program Eligible Activities

Under the Program, financial assistance is available to established IRCs for—

• Cost of Administration;

• Systems Planning, including the impact on freight operations and ridership; ¹

¹ Systems planning is a high-level planning process that occurs prior to project specific planning studies and identifies potential solutions to transportation challenges. Regional rail plans are an example of a systems planning study and identify a network of corridors that may have the potential to support intercity passenger rail service within a region.

• Promotion of Intercity Passenger Rail Operations;

• Preparation of applications for competitive Federal grant programs; and

• Operations Coordination.

1. What administrative costs need funding?

2. How would IRCs use funding for systems planning studies?

3. What promotional activities for intercity passenger rail operations require funding?

4. What preparation activities for Federal grant programs require funding?

5. What operations coordination activities require funding?

6. Of the eligible activities listed above, are there activities that are particularly important or helpful to support an IRC's work?

7. What deliverables should FRA require for tasks associated with these activities?

8. How should FRA measure performance for these activities?

Sequencing of Eligible Activities

FRA anticipates that established IRCs at various stages of development may focus on different activities based on issues relevant to the compact, and their capacities. Longer-established, more active compacts may have a greater need to focus on operations coordination while newly-developed compacts may focus more on securing administrative and technical staff and establishing the basic parameters of the compact, such as a mission statement and bylaws. The eligible activities allow for range of endeavors to provide support to IRCs at different stages of development.

Providing a framework to sequence the eligible activities could assist IRCs in identifying key actions to support the development of intercity passenger rail within their region. For example, encouraging the development of a regional rail planning study as a first deliverable could be helpful, because regional rail plans can act as a roadmap to determine how and when corridors services should be implemented. A regional rail plan can still provide this benefit in instances where State departments of transportation have advanced more detailed corridor planning studies, because the analysis completed in a regional rail plan can describe network benefits of operating a region of connected corridors. Some eligible activities, such as the cost of administration, would not be tied to a sequencing framework as these costs are required to support the interstate rail compact throughout the lifecycle of the grant.

9. Would providing a framework for the sequencing of eligible activities be helpful? If so, what should the sequencing framework look like?

10. What are the potential drawbacks of establishing a sequencing framework for eligible activities?

11. What are the potential benefits of establishing a sequencing framework for eligible activities?

IRC Development and Dormant IRCs

As mentioned above, FRA is considering assisting States interested in establishing an IRC to better coordinate developing intercity passenger rail service within a region. Although FRA is unable to offer financial assistance to establish an IRC, FRA is considering providing other types of assistance, such as technical assistance, for this purpose.

Additionally, FRA recognizes that restarting the activities of a dormant IRC is a significant undertaking and the authorized activities of the IRC may no longer reflect present day needs and priorities. FRA is considering how it may assist in these endeavors as well.

Feedback from stakeholders and the public on the below questions will assist FRA in this regard.

12. In what instances should States consider establishing an IRC?

13. What are the specific issues States are seeking to resolve through the establishment of an IRC?

14. What States should consider establishing an IRC?

15. What issues or challenges make it difficult to establish an interstate compact or IRC?

16. How can FRA most effectively facilitate establishing a new IRC?

17. How can FRA best facilitate coordination of project development among States to achieve better service and performance than project development conducted by individual States?

18. In what instances should States consider resuming activities under a dormant IRC?

19. In what instances should States consider legislative action to expand the authorized activities an interstate compact can undertake?

20. What type of assistance from FRA would be helpful in restarting the work of a dormant IRC?

Issued in Washington, DC.
Paul Nissenbaum,
Associate Administrator, Office of Railroad Policy and Development.

[FR Doc. 2022-17888 Filed 8-18-22; 8:45 am]

BILLING CODE 4910-06-P